ENVIRONMENTAL PROTECTION AGENCY

[FRL-7137-2]

Notice of Request for Proposals for Projects To Be Funded From the Water Quality Cooperative Agreement Allocation

AGENCY: Environmental Protection Agency (EPA).

ACTION: Notice.

SUMMARY: EPA Region 6 is soliciting proposals from State water pollution control agencies, interstate agencies, other public or nonprofit agencies, institutions, organizations, and other entities as defined by the Clean Water Act (CWA) interested in applying for Federal assistance for Water Quality Cooperative Agreements under the CWA Section 104(b)(3) in the states of Arkansas, Louisiana, New Mexico, Oklahoma and Texas. Region 6 EPA will award an estimated $1 million to eligible applicants through assistance agreements ranging in size from $50,000 up to $200,000 for innovative projects/demonstrations/studies that can be used as models relating to the prevention, reduction, and elimination of water pollution. A Request for Proposals for Tribal governments will be issued under a separate notice.

DATES: EPA will consider all proposals received on or before 5 p.m. Central Standard Time March 21, 2002. Proposals received after the due date will not be considered for funding.

ADDRESSES: Proposals can be submitted either electronically via e-mail or mailed through the postal service or other means. If e-mailed, proposals should be sent to mendiola.teresita@epa.gov. If mailed, proposals should be sent to: Terry Mendiola (6WQ-AT), U.S. Environmental Protection Agency, Region 6, 1445 Ross Avenue, Dallas, Texas 75202-2733. Overnight Delivery may be sent to the same address.

FOR FURTHER INFORMATION CONTACT: Terry Mendiola by telephone at 214-665-7144 or by e-mail at mendiola.teresita@epa.gov.

SUPPLEMENTARY INFORMATION:

What Is the Purpose of This Request for Proposals?

EPA Region 6's Water Quality Protection Division is requesting proposals from State water pollution control agencies, interstate agencies, other public or nonprofit agencies, institutions, organizations, and other entities as defined by the CWA for unique and innovative projects that address the requirements of the National Pollutant Discharge Elimination Systems (NPDES) program with special emphasis on wet weather activities, i.e., storm water, sanitary sewer overflows, and concentrated animal feeding operations as well as projects that enhance the ability of the regulated community to deal with non-traditional pollution problems in priority watersheds. Innovative studies leading to the development of Total Maximum Daily Loads (TMDL) is another priority on which these funds could be focused.

An organization whose proposal is selected for Federal assistance must complete an EPA Application for Assistance, including the Federal SF-424 form (Application for Federal Assistance, see 40 CFR 30.12 & 31.10).

Has EPA Region 6 Identified High Priority Areas for Consideration?

EPA Region 6 has identified several project areas for priority consideration to the extent they are for research, investigations, experiments, training, demonstrations, surveys and studies related to the causes, effects, extent, prevention, reduction, and elimination of water pollution:

Concentrated Animal Feeding Operations

Alternative markets for excess manure

Voluntary Comprehensive Nutrient Management Plans for Animal Feeding

Operations with 300 to 500 animal units

Wet Weather (Sanitary Sewer Overflows (SSOs), Storm Water)

Integration of SSO and storm water requirements

Measuring the effectiveness of storm water Best Management Practices (BMPs)

Trends analysis of load reductions due to implementation of storm water BMPs

Storm water monitoring techniques

Estimating quantified benefits of enhanced sewer performance (e.g., reduced backups)

Quantifying the impacts of sewage overflows

Evaluation of impacts of peak wet weather flows on Publicly Owned Treatment Works (POTW)

Capacity, Management, Operations and Maintenance (CMOM) of POTWs

Inflow/Infiltration reduction

Sewer rehabilitation methods

Municipal Stormwater Inspection Training Modules

NPDES Programs

Stakeholder watershed approaches

Nutrient trading

Watershed integration of NPDES programs

Innovative Permit Writing Tools

Strategy to effectively manage Permit Backlog

Pretreatment

Performance measures

Facilitation of innovative technology transfer

Pretreatment on the Mexican Border

Environmental Management System (EMS)

Benefits and impacts of EMS

EMS adoption by public agencies

Cooling Water Intake Structures (CWA, Section 316(b))

Innovative technologies that reduce impingement and entrainment of aquatic organisms into cooling water intakes

Ecological effects of cooling water intake structures on aquatic environments

Effectiveness of ecological restoration activities in reducing the impact of cooling water intake structures on the aquatic environment

Infrastructure Funding related to:

Asset Management

Operations and Maintenance (O&M) issues for small communities

Biosolids

Demonstrations of regional biosolids approaches

Food crop applications on biosolids and/or reclaimed water (assessments, research, demonstrations analyses)

Onsite/Decentralized Systems

State-level adoption of EPA management guidelines

Overcoming institutional, regulatory and funding barriers to implementation of decentralized options

Development of tools to assist communities with conducting comprehensive, watershed-wide assessments of risks associated with decentralized wastewater systems

TMDL

Innovative studies leading to TMDL development on a watershed basis for multiple pollutants including but not limited to nutrients, sediments, turbidity, metals, toxics, pesticides, bacteria, and unknown toxicity impacted by point sources as well as non-point sources. The innovative studies should be based on credible research on the physical, chemical, and biological processes governing the stochastic properties of pollutants in the environment. The innovative studies should lead to the development of scientific methods and/or statistical tools to identify the water quality problems and the extent of contamination but should not include TMDL modeling calculations.

Water Quality Standards Program

Innovative projects or studies that will lead to the development and refinement of water quality standards and associated water quality monitoring and assessment methods or procedures that result in improved decisions about the status of waterbodies relative to the goals of the CWA. The projects may include, but are not limited to, refinement of waterbody classification systems and associated designated uses, refinement or development of narrative or numeric criteria, development of sampling schemes for improved integration of risk assessment in use attainment decisions, improved methods to identify emerging environmental problems, development of methods to assess attainment of numeric criteria using indicators that integrate conditions over time, and GIS based land use analyses for targeting monitoring and assessment resources.

Statutory Authority, Applicable Regulations, and Funding Level

Funding is authorized under the provisions of the CWA Sec.104(b)(3), 33U.S.C.1254(b)(3).

The regulations governing the award and administration of Water Quality Cooperative Agreements are 40 CFR part 30 (for institutions of higher learning, hospitals, and other nonprofit organizations) and 40 CFR part 31 (for States, local governments, and interstate agencies).

Total funding available for award by Region 6 is dependent on EPA's appropriation for Fiscal Year 2002; however, it is estimated that $1 million will be available for funding approved projects. A minimum match of five percent will be required for all approved projects and should be included in the total funding requested for each proposal submitted.

Proposal Format and Contents

Proposals should be no more than three pages in Wordperfect or Word with a minimum font size of 10 pitch. Failure to follow the format or to include all requested information could result in proposal not being considered for funding. Full application packages should not be submitted at this time. The following format should be used for all proposals:

Name of Project:

Point of Contact: (Individual and Agency/Organization Name, Address, Phone Number, Fax Number, E-mail Address)

Is This a Continuation of a Previously Funded Project (if so, please provide the status of the current grant or cooperative agreement):

Proposed Federal Amount:

Proposed Non-Federal Match (minimum of 5%):

The match is based on the total project cost not the Federal amount. To determine a proposed minimum match of 5%, use the following example:

Federal amount = $25,000

Total Project Cost = T

The Federal amount is 95 % of T, therefore:

$25,000 = T x 0.95

$25,000 / 0.95 = T

$26,316 = T (round the decimal)

If the total project cost is $26,316, then:

$26,316 x 0.05 = $1,316 non-Federal match

Proposed Total Award Amount:

Description of General Budget Proposed To Support Project:

Project Description: (Should not exceed two pages of single-spaced text)

Expected Accomplishments or Product, with Dates, and Interim Milestones: This section should also include a discussion of a communication plan for distributing the project results to interested parties.

Describe How the Project Meets the Evaluation Criteria Specified Below:

EPA Proposal Evaluation Criteria

EPA will consider proposals based on the following criteria:

• The relationship of the proposed project to the priorities identified in this notice.

• How well the project furthers the goals of the CWA to prevent, reduce, and eliminate water pollution.

• Innovation of project proposal.

• Cost effectiveness of the proposal.

• Applicant's past performance, if applicable.

• Compliance with directions for submittal contained in this notice.

Eligible Applicants

For the purpose of this notice, eligible applicants for assistance agreements under section 104(b)(3) of the CWA are State water pollution control agencies, interstate agencies, other public or nonprofit agencies, institutions, organizations, and other entities as defined by the CWA. This solicitation is limited to applicants within EPA Region 6 which includes the states of Arkansas, Louisiana, New Mexico, Oklahoma, and Texas. Proposals received for projects outside of Region 6 will not be considered.

Application Procedure

If mailed, please send three copies of the proposal.

Schedule of Activities

This is the estimated schedule of activities for review of proposals and notification of selections:

March 21, 2002—Proposals due to EPA.

May 20, 2002—Initial approvals identified and sponsors of projects selected for funding will be requested to submit a formal application package.

Dated: January 24, 2002.
Larry Wright,
Acting Director, Water Quality Protection Division.

[FR Doc. 02-2608 Filed 2-1-02; 8:45 am]

BILLING CODE 6560-50-P